DEPARTMENT OF THE INTERIOR

National Park Service

[NPS-WASO-NAGPRA-NPS0039429; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), the Sonoma State University intends to repatriate certain cultural items that meet the definition of unassociated funerary objects and that have a cultural affiliation with the Indian Tribes or Native Hawaiian organizations in this notice.

DATES: Repatriation of the cultural items in this notice may occur on or after April 16, 2025.

ADDRESSES: Doshia Dodd, Sonoma State University, 1801 East Cotati Avenue, Rohnert Park, CA 94928, telephone (530) 514-8472, email Doshia.dodd@sonoma.edu.

SUPPLEMENTARY INFORMATION: This notice is published as part of the National Park Service's administrative responsibilities under NAGPRA. The determinations in this notice are the sole responsibility of the Sonoma State University, and additional information on the determinations in this notice, including the results of consultation, can be found in the summary or related records. The National Park Service is not responsible for the determinations in this notice.

Abstract of Information Available

A lot of six cultural items under Accession Number 73-08 removed from archaeological sites CA-SON-688 (P-49-000633), and CA-SON-689 (P-49-000634), north of Stillwater Cove in Sonoma County, California have been requested for repatriation. The lot of six unassociated funerary objects are shell, flaked stone tools and debitage, and groundstone. The cultural items have remained at Sonoma State University since being accessioned under 73-08.

A lot of 25 cultural items under Accession Number 73-10 removed from CA-SON-690 (P-49-000635), near Sea Ranch in Sonoma County, California have been requested for repatriation. The lot of 25 unassociated funerary objects are flaked stone tools and debitage; historic-period material; modified shell; and shell beads. The cultural items have remained at Sonoma State University since being accessioned under 73-10.

A lot of 18 cultural items under Accession Number 76-04 removed from CA-SON-923 (P-49-000863), CA-SON-924 (P-49-000864), CA-SON-925 (P-49-000865), and the Russian River Wastewater Survey, near Ocean Cove in Sonoma County, California have been requested for repatriation. The unassociated funerary objects are flaked stone tools and debitage; groundstone; unmodified shell; and soil samples. Sonoma State University acquired the cultural items in 1976 from a Sonoma State University-led archaeological project. The cultural items have remained at Sonoma State University since being accessioned under 76-04.

One lot of cultural items under Accession Number 77-03 removed from CA-SON-1057 (P-49-000989), near Jenner in Sonoma County, California have been requested for repatriation. The unassociated funerary objects are flaked stone tools and debitage. Sonoma State University acquired the cultural items in 1977 from a Sonoma State University-led archaeological project. The cultural items have remained at Sonoma State University since they were accessioned under 77-03.

A lot of three cultural items under Accession Number 79-03 removed from CA-SON-1091 (P-49-001020) near Timber Cove, and CA-SON-1175 (P-49-001102) near Jenner in Sonoma County, California have been requested for repatriation. The unassociated funerary objects are flaked stone tools and debitage; and shell beads. Sonoma State University acquired the cultural items in 1979 from a Sonoma State University-led archaeological project for the Sonoma County Planning Department. The cultural items have remained at Sonoma State University since being accessioned under 79-03.

A lot of three cultural items under Accession Number 81-01 removed from CA-SON-1350 (P-49-001268), near Sea Ranch in Sonoma County, California have been requested for repatriation. The unassociated funerary objects are groundstone; and modified shell. Sonoma State University acquired the cultural items in 1981 from a Sonoma State University-led archaeological project. The cultural items have remained at Sonoma State University since being accessioned under 81-01.

A lot of 745 cultural items under Accession Number 91-02 removed from CA-SON-1918 (P-49-000989), near Timber Cove in Sonoma County, California have been requested for repatriation. The unassociated funerary objects are flaked stone tools and debitage; groundstone; historic-period material; unmodified faunal bone and shell. Sonoma State University acquired the cultural items in 1991 from a Sonoma State University-led archaeological project for the Sonoma County Planning Department. The cultural items have remained at Sonoma State University since being accessioned under 91-02.

A lot of 46 cultural items under Accession Number 92-03 removed from CA-SON-0000 (Jenner Site), near Jenner in Sonoma County, California have been requested for repatriation. The unassociated funerary objects are flaked stone tools and debitage; and groundstone. Sonoma State University acquired the cultural items in 1992 from Origer Consulting Inc., who collected the items during an archeological project for the Sonoma County Planning Department. The cultural items have remained at Sonoma State University since being accessioned under 92-03.

A lot of 56 cultural items under Accession Number 84-01 removed from CA-SON-0000 (Timber Cove), near Timber Cove in Sonoma County, California have been requested for repatriation. The unassociated funerary objects are flaked stone tools and debitage; and historic-period material. Sonoma State University acquired the cultural items in 1984 from a Sonoma State University-led archaeological project. The cultural items have remained at Sonoma State University since being accessioned under 84-01.

A lot of 17 cultural items under Accession Number 87-01 removed from CA-SON-0000 (Timber Cove Inn), near Timber Cove in Sonoma County, California have been requested for repatriation. The unassociated funerary objects are flaked stone tools and debitage. Sonoma State University acquired the cultural items in 1987 from a Sonoma State University-led archaeological project. The cultural items have remained at Sonoma State University since being accessioned under 87-01.

Based on records concerning the unassociated funerary objects and the institution in which they are housed, there is no evidence of the unassociated funerary objects being treated with hazardous substances.

Determinations

The Sonoma State University has determined that:

• The 920 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Kashia Band of Pomo Indians of the Stewarts Point Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 16, 2025. If competing requests for repatriation are received, the Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: January 28, 2025.
Melanie O'Brien,
Manager, National NAGPRA Program.

[FR Doc. 2025-04171 Filed 3-14-25; 8:45 am]

BILLING CODE 4312-52-P